DEPARTMENT OF ENERGY

Federal Energy Regulatory Commission

[Docket No. RP00-316-000]

Kinder Morgan Interstate Gas Transmission LLC; Notice of Tariff Filing

June 9, 2000.

Take notice that on June 5, 2000, Kinder Morgan Interstate Gas Transmission LLC, (KMIGT) tendered for filing as part of its FERC Gas Tariff, Fourth Revised Volume No. 1-A and Fourth Revised Volume 1-B, the tariff sheets listed on Appendix A to the filing, to become effective August 1, 2000.

KMIGT states that the proposed changes update the KMIGT tariff and clarify or simplify certain tariff provisions, and in some cases change certain tariff provisions in order to reflect evolving business practices in the natural gas industry and to implement simpler or more efficient operational requirements. Through the proposed changes KMIGT: Moves certain provisions from the various Rate Schedules into the General Terms and Conditions of the tariff; offers additional flexibility with regard to shipper imbalances; clarifies the methodology for point allocation, curtailment and scheduling of service; revises and clarifies the right of first refusal process; revises the provisions regarding capacity release; simplifies its methodology for billing for overruns; and makes a number of housekeeping changes to various tariff sheets.

Any person desiring to be heard or to protest said filing should file a motion to intervene or a protest with the Federal Energy Regulatory Commission, 888 First Street, NE, Washington, DC 20426, in accordance with sections 385.214 or 385.211 of the Commission's Rules and Regulations. All such motions or protests must be filed in accordance with Section 154.2109 of the Commission's Regulations. Protests will be considered by the Commission in determining the appropriate action to be taken, but will not service to make protestants parties to the proceedings. Any person wishing to become a party must file a motion to intervene. Copies of this filing are on file with the Commission and are available for public inspection in the Public Reference Room. This filing may be viewed on the web at http://www.ferc.fed.us/rims.htm (call 202-208-2222 for assistance).

Linwood A. Watson, Jr.,
Acting Secretary.

[FR Doc. 00-15100 Filed 6-14-00; 8:45 am]

BILLING CODE 6717-01-M